DEPARTMENT OF JUSTICE

Antitrust Division

Notice Pursuant to the National Cooperative Research and Production Act of 1993; Mobile Wireless Internet Forum

Notice is hereby given that, on February 13, 2001, pursuant to Section 6(a) of the National Cooperative Research and Production Act of 1993, 15 U.S.C. 4301 et seq. (“the Act”), Mobile Wireless Internet Forum has filed written notifications simultaneously with the Attorney General and the Federal Trade Commission disclosing changes in its membership status. The notifications were filed for the purpose of extending the Act's provisions limiting the recovery of antitrust plaintiffs to actual damages under specified circumstances. Specifically, Aepona Telecoms, Dublin Ireland; Mspect, Sunnyvale, CA; OKI Electric Industry, Chiba-Si, Chiba, Japan; Packet Machine, Tel Aviv, Israel; Winphoria Networks, Tewksbury, MA; and Xybridge Technologies, Richardson, TX have been added as parties to this venture. Also, Sharp Electronics Corporation, Nara, Japan; and Solect, Toronto, Ontario, Canada have been dropped as parties to this venture. IP Mobile, Richardson, TX has merged with Cisco, San Jose, CA. The following members have changed their names: 3Com to Commworks, a 3ComCompany, Mount Prospect, IL; DDI Corporation to KDDI, Tokyo, Japan; Nettle Network Technologies to Lacuna Network Technologies, Arlington, VA; and phone.com to Openwave, Temple Terrace, FL.

No other changes have been made in either the membership or planned activity of the group research project. Membership in this group research project remains open, and Mobile Wireless Internet Forum intends to file additional written notification disclosing all changes in membership.

On May 25, 2000, Mobile Wireless Internet Forum filed its original notification pursuant to Section 6(a) of the Act. The Department of Justice published a notice in the Federal Register pursuant to Section 6(b) of the Act on August 11, 2000 (65 FR 49264).

The last notification was filed with the Department on November 13, 2000. A notice was published in the Federal Register pursuant to Section 6(b) of the Act on January 11, 2001 (66 FR 2449).

Constance K. Robinson,
Director of Operations, Antitrust Division.

[FR Doc. 01-7782 Filed 3-28-01; 8:45 am]

BILLING CODE 4410-11-M